DEPARTMENT OF THE TREASURY

Agency Information Collection Activities; Proposed Collection; Comment Request; Solicitation of Proposal Information for Award of Public Contracts

AGENCY: Departmental Offices, Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before December 28, 2021.

ADDRESSES: Send comments regarding the burden estimate, or any other aspect of the information collection, including suggestions for reducing the burden, by emailing OfficeoftheProcurementExecutive@treasury.gov. Please refer to Office of Management and Budget (OMB) control number 1505-0081.

FOR FURTHER INFORMATION CONTACT: For questions related to these programs, please contact Steven Kvalevog by emailing OfficeoftheProcurementExecutive@treasury.gov, or calling (202) 441-5171. Additionally, you can view the information collection request at www.reginfo.gov.

SUPPLEMENTARY INFORMATION:

Title: Solicitation of Proposal Information for Award of Public Contracts.

OMB Control Number: 1505-0081.

Type of Review: Extension of a currently approved collection.

Description: Treasury Bureaus and the Office of the Procurement Executive collect information when inviting firms to submit proposals for public contracts for supplies and services. The information collection is necessary for compliance with the Federal Property and Administrative Services Act (41 U.S.C. 251 et seq.), the Federal Acquisition Regulation (FAR) (48 CFR chapter 1) and applicable acquisition regulations. Information requested of offerors is specific to each procurement solicitation, and is required for Treasury to properly evaluate the capabilities and experience of potential contractors who desire to provide the supplies or services to be acquired.

Forms: None.

Affected Public: Businesses and other for-profits.

Estimated Number of Respondents: 23,781.

Frequency of Response: On occasion.

Estimated Total Number of Annual Responses: 23,781.

Estimated Time per Response: 9 hours.

Estimated Total Annual Burden Hours: 214,029.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: October 26, 2021.
Spencer W. Clark,
Treasury PRA Clearance Officer.

[FR Doc. 2021-23604 Filed 10-28-21; 8:45 am]

BILLING CODE 4810-AK-P